DEPARTMENT OF THE TREASURY

Submission for OMB Review; Comment Request

February 23, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 31, 2004 to be assured of consideration.

Internal Revenue Service (IRS)

OMB Number: 1545-0044.

Form Number: IRS Form 973.

Type of Review: Extension.

Title: Corporation Claim for Deduction for Consent Dividends.

Description: Corporations file Form 973 to claim a deduction for dividends paid. If shareholders consent and IRS approves, the corporation may claim a deduction for dividends paid, which reduces the corporation's tax liability. IRS uses Form 973 to determine if shareholders have included the dividend in gross income.

Respondents: Business or other for-profit.

Estimated Number of Respondents/Recordkeepers: 500.

Estimated Burden Hours Respondent/Recordkeeper:

Recordkeeping—3 hr., 21 min.

Learning about the law or the form—30 min.

Preparing and sending the form to the IRS—34 min.

Frequency of Response: On occasion.

Estimated Total Reporting/Recordkeeping Burden: 2,210 hours.

OMB Number: 1545-0045.

Form Number: IRS Form 976.

Type of Review: Extension.

Title: Claim for Deficiency Dividends Deductions by a Personal Holding Company, Regulated Investment Company, or Real Estate Investment Trust.

Description: Form 976 is filed by corporations that wish to claim a deficiency dividend deduction. The deduction allows the corporation to eliminate all or a portion of a tax deficiency. The IRS uses Form 976 to determine if shareholders have included amounts in gross income.

Respondents: Business or other for-profit.

Estimated Number of Respondents/Recordkeepers: 500.

Estimated Burden Hours Respondent/Recordkeeper:

Recordkeeping—5 hr., 44 min.

Learning about the law or the form—53 min.

Preparing, copying, assembling, and sending the form to the IRS—1 hr., 1 min.

Frequency of Response: On occasion.

Estimated Total Reporting/Recordkeeping Burden: 3,830 hours.

OMB Number: 1545-0073.

Form Number: IRS Form 1310.

Type of Review: Extension.

Title: Statement of Person Claiming Refund Due a Deceased Taxpayer.

Description: Form 1310 is used by a claimant to secure payment of a refund on behalf of a deceased taxpayer. The information enables IRS to send the refund to the correct person.

Respondents: Individuals or households.

Estimated Number of Respondents/Recordkeepers: 7,500.

Estimated Burden Hours Respondent/Recordkeeper:

Recordkeeping—6 min.

Learning about the law or the form—3 min.

Preparing the form—15 min.

Copying, assembling, and sending the form to the IRS—16 min.

Frequency of Response: On occasion.

Estimated Total Reporting/Recordkeeping Burden: 5,250 hours.

OMB Number: 1545-0746.

Regulation Project Number: LR-100-78 Final.

Type of Review: Extension.

Title: Creditability of Foreign Taxes.

Description: The information needed is a statement by the taxpayer that it has elected to apply the safe harbor formula of section 1.901-2A(e) of the foreign tax credit regulations. This statement is necessary in order that the IRS may properly determine the taxpayer's tax liability.

Respondents: Business or other for-profit, Individuals or households, Farms.

Estimated Number of Respondents: 110.

Estimated Burden Hours Respondent: 3 hours.

Frequency of Response: Other (non-recurring).

Estimated Total Reporting Burden: 37 hours.

OMB Number: 1545-1455.

Regulation Project Number: PS-80-93 Final.

Type of Review: Extension.

Title: Rules for Certain Rental Real Estate Activities.

Description: The regulation provides rules relating to the treatment of rental real estate activities of certain taxpayers under the passive activity loss and credit limitations of Internal Revenue Code section 469.

Respondents: Individuals or households, Business or other for-profit.

Estimated Number of Respondents: 20,100.

Estimated Burden Hours Respondent: 9 minutes.

Frequency of Response: On occasion.

Estimated Total Reporting Burden: 3,015 hours.

Clearance Officer: Glenn P. Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-4453 Filed 2-27-04; 8:45 am]

BILLING CODE 4830-01-P